DEPARTMENT OF TRANSPORTATION

Surface Transportation Board

[Docket No. FD 35478]

Rocky Mountain Railcar and Repair, Inc.—Acquisition and Operation Exemption—Line of Railroad in Tooele County, UT

Rocky Mountain Railcar and Repair, Inc. (Rocky Mountain), a noncarrier, has filed a verified notice of exemption under 49 CFR 1150.31 to acquire from Utah Industrial Depot and operate 11.5 miles of rail line, located inside an existing industrial facility in Tooele County, Utah.¹ The rail line includes a spur that connects to the Union Pacific Railroad Company main line.

¹ Rocky Mountain states that it currently operates a railcar repair facility, but that it seeks to become a common carrier.

According to Rocky Mountain, the transaction is expected to be consummated on or after September 28, 2011 (180 days after the exemption was filed); this is after the May 1, 2011 effective date of the exemption (30 days after the exemption was filed).

Rocky Mountain certifies that its projected annual revenues as a result of this transaction will not result in Rocky Mountain becoming a Class II or Class I rail carrier. Rocky Mountain further certifies that its projected annual revenues upon becoming a Class III carrier will not exceed $5 million.

If the notice contains false or misleading information, the exemption is void ab initio. Petitions to revoke the exemption under 49 U.S.C. 10502(d) may be filed at any time. The filing of a petition to revoke will not automatically stay the effectiveness of the exemption. Petitions to stay must be filed no later than April 22, 2011 (at least 7 days before the exemption becomes effective).

An original and 10 copies of all pleadings, referring to Docket No. FD 35478, must be filed with the Surface Transportation Board, 395 E Street, SW., Washington, DC 20423-0001. In addition, one copy of each pleading must be served on Trent D. Stirling, Rocky Mountain Railcar and Repair, Inc., 1485 W. James Way, Tooele, UT 84074.

Board decisions and notices are available on our Web site at “www.stb.dot.gov.”

Decided: April 12, 2011.
By the Board, Rachel D. Campbell, Director, Office of Proceedings.
Jeffrey Herzig,
Clearance Clerk.

[FR Doc. 2011-9167 Filed 4-14-11; 8:45 am]

BILLING CODE 4915-01-P